ADMINISTRATIVE COMMITTEE OF THE FEDERAL REGISTER

1 CFR Parts 9, 11, and 12

Regulations Affecting Publication of the United States Government Manual

AGENCY: Administrative Committee of the Federal Register.

ACTION: Proposed rule.

SUMMARY: The Administrative Committee of the Federal Register proposes to update its regulations for the Federal Register system to remove from its regulations the requirement that the United States Government Manual (Manual) be published and distributed in a soft bound edition. This proposal would also eliminate the requirement to make soft bound print copies available to officials of the United States government without charge. The general public and United States government officials will have access to a redesigned online version of the Manual. Soft bound printed copies of the Manual may still be issued and would be available from the U.S. Government Bookstore. This action does not represent an increase in the burdens on agencies or the public.

DATES: Comments must be received on or before July 15, 2010.

ADDRESSES: Docket materials are available at the Office of the Federal Register, 800 North Capitol Street, NW., Suite 700, Washington, DC 20001, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Amy P. Bunk, Director of Legal Affairs and Policy, Office of the Federal Register, at Fedreg.legal@nara.gov, or 202-741-6030.

SUPPLEMENTARY INFORMATION:

Background and Purpose

Under the Federal Register Act (44 U.S.C. Chapter 15), the Administrative Committee of the Federal Register (Administrative Committee) is responsible for issuing regulations governing Federal Register publications. The Administrative Committee has general authority under 44 U.S.C. 1506 to determine the manner and form for publishing the Federal Register and its special editions, including the United States Government Manual (Manual).

Title 1 part 9 of the Code of Federal Regulations regulates the publication of the United States Government Manual. This publication has been issued as a special edition of the Federal Register since the publication was transferred to the Office of the Federal Register from the Office of Government Reports within the Bureau of Budget when that Office was abolished on June 30, 1948. The first manual, the United States Government Organization Manual, produced under the authority of regulations of the Administrative Committee, was issued on August 4, 1949, and sold for $1.00 per copy. Now known as the United States Government Manual (Manual), it continued to be one of the Government Printing Office's (GPO) “best sellers” until public demand for printed editions began to decline in favor of more current information found on the Internet.

Under the Government Printing Office Electronic Information Access Enhancement Act of 1993 (44 U.S.C. Chapter 41), the OFR/GPO partnership developed an online edition of the Manual in both text-only files and PDF files. At present, the online version is a direct output of the printed edition. The files begin with documents from the 1995-1996 edition of the Manual and continue through the present. In its present form, as an annual-only publication, some agency information published in the Manual may be out of date as soon as purchasers receive their copy. This proposed rule addresses the declining demand for the printed version and the timeliness of publication by establishing a new electronic format for the publication. The proposed rule addresses the rising costs of print production by discontinuing the requirement that OFR/GPO print and make official distribution of the annual edition of the Manual. Under this proposal, the Manual would be published and officially distributed as a currently updated online database. The new online version of the Manual would contain the same information as has appeared in the printed edition. OFR editors would continue to review all material submitted for publication in the Manual to assure the accuracy and integrity of the Manual. The database structure of the new electronic version of the Manual would enable Federal agencies to submit updated information on an ongoing basis, as new officials take office, and agency programs undergo changes.

OFR/GPO would still have the flexibility to produce a printed product based on the strength of customer demand. In the near term, OFR/GPO expect that there will be sufficient demand from individuals and organizations to produce a printed edition of the Manual, which will continue to be available to individual patrons and institutions through the U.S. Government Bookstore, and to libraries through the Federal Depository Library Program. However, government agencies would no longer receive free copies of the printed edition. GPO will provide agencies an opportunity to order copies before printing at the rider rate. (A rider rate is available before the start of printing production and represents the minimal cost of producing additional copies as a continuation of the initial printing run.) In the long term, the annual printed edition of the Manual may be discontinued entirely if customer demand significantly decreases. The proposed changes to this publication would not expand any regulated community or impose any additional regulatory burden.

With the advent of the Internet, the printed soft bound copies of the Manual became outdated in many cases before the official copies were mailed to Federal officials. In addition, the soft bound print publication has lost a majority of its sales making the cost of publishing the soft bound editions of the Manual cost prohibitive. Currently, the Manual has the same publication dilemma faced by the Weekly Compilation of Presidential Documents before the Administrative Committee issued its January 2009 rule to discontinue printing that publication. The Manual is presently mailed annually via United States Post Office bulk rate postage to Federal officials for official use. As mentioned above, by the time these officials receive their copy of the Manual, the information published in it is, or may be, out of date. These officials can obtain much of the same information from other sources, but without the guaranty of accuracy and integrity provided by the OFR editors. The new online version of the Manual will increase access to the information regarding the Federal government and allow for more frequent updating.

In this proposal, the Administrative Committee proposes non-substantive formatting changes to § 11.4 and substantive changes to part 12 to remove § 12.3. Under the FRA, the Administrative Committee is responsible for setting the number of official use copies of Federal Register publications distributed free of charge to various offices within the Federal government. See, 44 U.S.C. 1506(4). To fulfill the requirements of the FRA, the 1 CFR part 12, entitled “Official Distribution within Federal Government” sets out the number of official copies of Federal Register publications that various Federal government entities are entitled to receive. Specifically, § 12.3 addresses the number of printed copies of the Manual available to Federal entities without charge. Because the Manual has been published in a soft bound edition that may not adequately serve the needs of Federal officials, the Administrative Committee believes that distributing the Manual in an electronic-only format to Federal officials for their official use would meet the intent of the FRA to distribute Federal Register publications for official use without charge. Thus, the Administrative Committee would remove this section.

Regulatory Analysis

We developed this proposed rule after considering numerous statutes and executive orders related to rulemaking. Below we summarize our analyses based on these statutes and executive orders.

Executive Order 12866

The proposed rule has been drafted in accordance with Executive Order 12866, section 1(b), “Principles of Regulation.” The Administrative Committee has determined that this proposed rule is not a significant regulatory action as defined under section 3(f) of Executive Order 12866. The proposed rule has not been submitted to the Office of Management and Budget under section 6(a)(3)(E) of Executive Order 12866.

Regulatory Flexibility Act

This proposed rule will not have a significant impact on small entities since it imposes no requirements. Members of the public can access Federal Register publications free through GPO's Web site.

Federalism

This proposed rule has no federalism implications under Executive Order 13132. It does not impose compliance costs on state or local governments or preempt state law.

Congressional Review

This proposed rule is not a major rule as defined by 5 U.S.C. 804(2). The Administrative Committee will submit a rule report, including a copy of this proposed rule, to each House of the Congress and to the Comptroller General of the United States as required under the congressional review provisions of the Small Business Regulatory Enforcement Fairness Act of 1986.

List of Subjects

1 CFR Part 9

Government publications, United States Government Manual.

1 CFR Part 11

Code of Federal Regulations, Federal Register, Government publications, Public Papers of Presidents of United States, United States Government Manual, Daily Compilation of.

1 CFR Part 12

Code of Federal Regulations, Federal Register, Government publications, Public Papers of Presidents of United States, United States Government Manual, Daily Compilation of.

For the reasons discussed in the preamble, under the authority at 44 U.S.C. 1506 and 1510, the Administrative Committee of the Federal Register, proposes to amend parts 9, 11, and 12 of chapter I of title 1 of the Code of Federal Regulations as set forth below:

1. Revise part 9 to read as follows:

PART 9—THE UNITED STATES GOVERNMENT MANUAL

Sec.
9.1 Publication required.
9.2 Scope.

Authority: 44 U.S.C. 1506; sec. 6, E.O. 10530, 19 FR 2709; 3 CFR, 1954-1958 Comp., p. 189.

§ 9.1 Publication required.

(a) The Director publishes a special edition of the Federal Register called “The United States Government Manual” as authorized by the Administrative Committee.

(b) The Director may update the Manual when such supplementation is considered to be in the public interest.

§ 9.2 Scope.

(a) The Manual will contain appropriate information about the Executive, Legislative, and Judicial branches of the Federal Government, which for the major Executive agencies will include—

(1) Descriptions of the agency's legal authorities, public purposes, programs and functions;

(2) Established places and methods whereby the public may obtain information and make submittals or requests; and

(3) Lists of officials heading major operating units.

(b) Brief information about quasi-official agencies and supplemental information that in the opinion of the Director is of enough public interest to warrant inclusion will also be included in the Manual.

PART 11—[AMENDED]

2. The authority citation for part 11 continues to read as follows:

Authority: 44 U.S.C. 1506; sec. 6, E.O. 10530, 19 FR 2709, 3 CFR, 1954-1958 Comp., p. 189.

3. Revise § 11.4 as follows:

§ 11.4 The United States Government Manual.

(a) Copies of a bound, paper edition of the Manual may be sold at a price determined by the Superintendent of Documents under the general direction of the Administrative Committee.

(b) The online edition of the Manual, issued under the authority of the Administrative Committee, is available through the Government Printing Office's Web site.

PART 12—[AMENDED]

4. The authority citation for part 12 continues to read as follows:

Authority: 44 U.S.C. 1506; sec. 6, E.O. 10530, 19 FR 2709; 3 CFR, 1954-1958 Comp., p. 189.

§ 12.3 [Removed]

5. Remove § 12.3.

By order of the Committee.
Raymond A. Mosley,
Secretary, Administrative Committee of the Federal Register.

[FR Doc. 2010-14465 Filed 6-14-10; 8:45 am]

BILLING CODE 1505-02-P